NATIONAL SCIENCE FOUNDATION

Agency Information Collection Activities: Comment Request;

AGENCY: National Science Foundation.

ACTION: Notice.

SUMMARY: The National Center for Science and Engineering Statistics (NCSES) within the National Science Foundation (NSF) is announcing plans to request approval for a new collection referred to as the National Training, Education, and Workforce Survey (NTEWS). The NTEWS will be a new, voluntary data collection sponsored by NCSES and cosponsored by the National Center for Education Statistics (NCES) within the U.S. Department of Education. The NTEWS serves to measure and understand two research concepts that are of national interest: (1) The education, training, and career pathways of skilled technical workers, and (2) the prevalence and interplay of education (postsecondary degrees and certificates), work credentials (certifications and licenses), and work experience programs among American workers. NCSES intends to release national estimates from the NTEWS collection. Under the requirements of the Paperwork Reduction Act of 1995, NCSES is providing an opportunity for public comment on this action. After obtaining and considering public comment, NCSES will prepare the submission requesting that OMB approve clearance of this collection for three years.

DATES: Written comments on this notice must be received by June 15, 2020 to be assured consideration. Comments received after that date will be considered to the extent practicable. Send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: The National Training, Education, and Workforce Survey.

OMB Control Number: 3145-NEW.

Expiration Date: Not Applicable.

Type of Request: Intent to seek approval for a new information collection.

Abstract: The pervasiveness of science and technology in society, including its central role in the economy, has changed the nature of work for individuals at all education levels, making skilled technical workers increasingly important to U.S. economic competitiveness, national security, and scientific progress. American workers who use science, technology, engineering, and mathematics (STEM) knowledge and skills in their jobs, but who do not have a bachelor's degree comprise the skilled technical workforce (STW). While data exists to quantify the number of skilled technical workers, limited information exists to examine how individuals enter, maintain relevance, or seek advancement in STW occupations. As a result, the currently available survey data are of limited utility for policymakers and STW stakeholders (employers, workforce advocates, and educational trainers) who are seeking more detailed information to inform discussions about STW policies, processes, and education and training programs. In response, NCSES has begun a multidimensional initiative to measure and understand the skilled technical workforce. This effort includes outreach with STW stakeholders to determine information needs and current data gaps, the identification and assessment of viable administrative data sources to inform STW-related research and policy discussions, and the plans for a new federal survey targeting the STW—the National Training, Education, and Workforce Survey (NTEWS).

The NTEWS will be a new, voluntary data collection sponsored by the National Center for Science and Engineering Statistics (NCSES) within the National Science Foundation and cosponsored by the National Center for Education Statistics (NCES) within the U.S. Department of Education. The NTEWS serves to measure and understand two research concepts that are of national interest: (1) The education, training, and career pathways of skilled technical workers, and (2) the prevalence and interplay of education (postsecondary degrees and certificates), work credentials (certifications and licenses), and work experience programs among American workers.

The content of the initial NTEWS expands on a former federal survey, the 2016 Adult Training and Education Survey (ATES), which was sponsored by NCES. The initial NTEWS will collect information on the following topics to examine the relationship between credentials and employment outcomes:

• Credential types

• Education characteristics

• Initial work training

• Employment characteristics

• Demographic characteristics

Given these areas of mutual interest for NCSES and NCES, the NTEWS will reduce public burden by fielding one cosponsored survey that meets the information needs for both federal agencies.

The initial NTEWS data collection effort will serve as the first cycle for a planned biennial, rotating panel design. Respondents will have the option to complete the survey by web, paper, or computer-assisted telephone interviewing (CATI). NCSES plans to incorporate methodological experiments in the initial administration to examine response mode and incentive options. Results from those experiments will be used to determine a data collection methodology that maximizes data quality, minimizes respondent burden, and reduces data collection cost in future cycles.

NCSES will analyze the initial NTEWS data to inform and resolve any statistical, methodological, operational, and content issues before the subsequent NTEWS collection cycle in the planned biennial survey cycle design.

The U.S. Census Bureau will serve as the Federal data collection contractor on behalf of NCSES and NCES. The NTEWS data will be protected under the applicable Census Bureau confidentiality statutes.

Use of the information: NCSES and NCES intend to publish national estimates from the initial NTEWS, as well as use the results to inform the next survey cycle. It is anticipated that the NTEWS data will be used for the two congressionally mandated biennial reports authored by NCSES: Women, Minorities, and Persons with Disabilities in Science and Engineering and Science and Engineering Indicators. NCES plans to release a special-topic statistical report on the status of educational and professional credentials in the United States. In addition, a public release file of collected data, designed to protect respondent confidentiality, will be made available to policymakers, researchers, and the public on the internet.

Established within NSF by the America COMPETES Reauthorization Act of 2010 § 505, codified in the NSF Act of 1950, as amended, NCSES serves as a central Federal clearinghouse for the collection, interpretation, analysis, and dissemination of objective data on science, engineering, technology, and research and development for use by practitioners, researchers, policymakers, and the public. NCSES also provides data to support the Science and Engineering Equal Opportunities Act of 1980, which directs NSF to provide to Congress and the Executive Branch an “accounting and comparison, by sex, race, and ethnic group and by discipline, of the participation of women and men in scientific and engineering positions.”

NCSES has historically met these legislative mandates through its suite of surveys and biennial publications that measure the education, employment, and demographic characteristics of the nation's college-educated scientists and engineers. However, an emerging research and policy interest in the STW creates a need for new data to expand and supplement NCSES's efforts on the college-educated science and engineering workforce.

Expected Respondents: All previous respondents to the 2018 American Community Survey, collected by the U.S. Census Bureau, are eligible to be selected to participate in the initial NTEWS. Approximately 40,000 adults, ages 16-75 and not enrolled in high school, will be selected for the NTEWS sample. The NTEWS sample design will meet the needs of both NCSES and NCES by providing coverage of the workforce-eligible adult population and including an oversample of adults who are in skilled technical occupations.

Estimate of Burden: The expected response rate is 62.5 percent, or 25,000 completed cases. The amount of time to complete the survey may vary depending on an individual's circumstances and the mode of the collection (web, paper, or telephone). NCSES estimates an average completion time of 15 minutes. NCSES estimates that the average annual burden for the initial NTEWS over the course of the three-year OMB clearance period will be no more than 2,084 hours [(25,000 completed cases × 15 minutes)/3 years].

Comments: Comments are invited on (a) aspects of the data collection effort (including, but not limited to, the following: The availability of administrative and supplemental sources of data on the skilled technical workforce, survey content, contact strategy, and statistical methods); (b) whether the proposed collection of information is necessary for the proper performance of the functions of NCSES, including whether the information shall have practical utility; (c) the accuracy of the NCSES's estimate of the burden of the proposed collection of information; (d) ways to enhance the quality, use, and clarity of the information on respondents, including through the use of automated collection techniques or other forms of information technology; and (e) ways to minimize the burden of the collection of information on those who are to respond, including through the use of appropriate automated, electronic, mechanical, or other technological collection techniques or other forms of information technology.

Dated: April 13, 2020.
Suzanne H. Plimpton,
Reports Clearance Officer, National Science Foundation.

[FR Doc. 2020-08067 Filed 4-15-20; 8:45 am]

BILLING CODE 7555-01-P